DEPARTMENT OF ENERGY

Proposed Subsequent Arrangement

AGENCY: Office of Nonproliferation and International Security, Department of Energy.

ACTION: Proposed subsequent arrangement.

SUMMARY: This notice is being issued under the authority of section 131a. of the Atomic Energy Act of 1954, as amended (42 U.S.C. 2160). The Department is providing notice of a proposed subsequent arrangement under the Agreement for Cooperation Between the Government of the United States of America and the Government of Japan Concerning Peaceful Uses of Nuclear Energy and the Agreement for Cooperation in the Peaceful Uses of Nuclear Energy Between the European Atomic Energy Community and the United States of America.

This subsequent arrangement concerns the retransfer of 2,536 g of U.S.-origin uranium (11 g U-235) and 27 g of plutonium contained in eight spent fuel rod segments from Nippon Nuclear Fuel Development Co., Ltd in Oarai-machi, Ibaraki-ken, Japan, to Studsvik Nuclear AB in Nyköping, Sweden. The material, which is currently located at Nippon Nuclear Fuel Development Co., Ltd, will be transferred to Studsvik Nuclear AB for: (a) Pre-irradiation experiment of the spent fuel rods irradiated in a nuclear power plant in Japan by Studsvik Nuclear AB in Sweden, (b) irradiation experiment of those fuel rods by Institutt for Energiteknikk OECD Halden Reactor Project in Norway, and (c) post-irradiation experiment of those fuel rods by Studsvik Nuclear AB in Sweden. The material was originally obtained by Nippon Nuclear Fuel Development Co., Ltd from Martin Marietta Energy Systems pursuant to export licenses XSNM02314 and XSNM02734.

In accordance with section 131a. of the Atomic Energy Act of 1954, as amended, it has been determined that this subsequent arrangement will not be inimical to the common defense and security.

This subsequent arrangement will take effect no sooner than February 2, 2011.

Dated: December 20, 2010.
For the Department of Energy.
Thomas P. D'Agostino,
Administrator, National Nuclear Security Administration.

[FR Doc. 2011-905 Filed 1-14-11; 8:45 am]

BILLING CODE 6450-01-P